NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (EHR) (#1119).

Date and Time: October 18, 2018; 8:00 a.m.-5:00 p.m.

October 19, 2018; 8:00 a.m.-2:00 p.m.

Place: National Science Foundation, 2415 Eisenhower Avenue, Room E2020, Alexandria, VA 22314.

To attend the meeting in person, all visitors must contact the Directorate for Education and Human Resources at least 48 hours prior to the meeting to arrange for a visitor's badge. All visitors must access NSF via the Visitor Center entry adjacent to the south building entrance on Eisenhower Avenue on the day of the meeting to receive a visitor's badge. It is suggested that visitors allow time to pass through security screening.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Ellen McCallie, National Science Foundation, 2415 Eisenhower Ave., Room C11233, Alexandria, VA 22314; (703) 292-8600; emccalli@nsf.gov.

Purpose of Meeting: To provide advice with respect to the Foundation's science, technology, engineering, and mathematics (STEM) education and human resources programming.

Agenda

Thursday, October 18, 2018, 8:00 a.m.-5:00 p.m.

Remarks by the EHR AC Committee Chair and the EHR Assistant Director for Education and Human Resources (EHR).

Public Private Partnerships.

STEM Education of the Future.

Mid-scale Research Infrastructure.

Broadening Participation.

Discussion with France Córdova, NSF Director and F. Fleming Crim, Chief Operating Officer.

Friday, October 19, 2018, 8:00 a.m.-2:00 p.m.

Day 1 Recap.

Quick briefings.

Update on EHR Programs.

Update on Subcommittees Reflections from the EHR AD.

Committee Business.

Advisory Committee Recommendations.

Final agenda can be located on the EHR AC website: https://www.nsf.gov/ehr/advisory.jsp.

Dated: September 17, 2018.
Crystal Robinson,
Committee Management Officer.

[FR Doc. 2018-20453 Filed 9-19-18; 8:45 am]

BILLING CODE 7555-01-P